FEDERAL TRADE COMMISSION

16 CFR Part 305

[3084-AB15]

Energy and Water Use Labeling for Consumer Products Under the Energy Policy and Conservation Act (Energy Labeling Rule)

AGENCY: Federal Trade Commission (“FTC” or “Commission”).

ACTION: Final rule.

SUMMARY: Consistent with proposed amendments published in a June 18, 2014 Supplemental Notice of Proposed Rulemaking (SNPRM), the Commission updates its label requirements for heating and cooling equipment and removes information from furnace labels about regional conservation standards.

DATES: The amendments published in this document will become effective on April 6, 2015.

ADDRESSES: Relevant portions of the proceeding, including this document, are available at the Commission's Web site, www.ftc.gov.

FOR FURTHER INFORMATION CONTACT: Hampton Newsome, (202) 326-2889, Attorney, Division of Enforcement, Bureau of Consumer Protection, Federal Trade Commission, 600 Pennsylvania Avenue NW., Washington, DC 20580.

SUPPLEMENTARY INFORMATION:

I. Background

The Commission issued the Energy Labeling Rule (“Rule”) in 1979,¹ pursuant to the Energy Policy and Conservation Act of 1975 (EPCA).² The Rule requires energy labeling for major home appliances and other consumer products to help consumers compare competing models. When first published, the Rule applied to eight categories: Refrigerators, refrigerator-freezers, freezers, dishwashers, water heaters, clothes washers, room air conditioners, and furnaces. The Commission subsequently expanded the Rule's coverage to include central air conditioners, heat pumps, plumbing products, lighting products, ceiling fans, and televisions. The Commission is separately reviewing the entire Rule.³

¹ 44 FR 66466 (Nov. 19, 1979) (Rule's initial promulgation).

² 42 U.S.C. 6294. EPCA also requires the Department of Energy (DOE) to develop test procedures that measure how much energy appliances use, and to determine the representative average cost a consumer pays for different types of energy.

³ 77 FR 15298 (Mar. 15, 2012) (initiation of regulatory review). The Commission currently has another open proceeding related to light bulb coverage. See 76 FR 45715 (Aug. 1, 2011) (proposed expanded light bulb coverage).

The Rule requires manufacturers to attach yellow EnergyGuide labels for many of the covered products and prohibits retailers from removing the labels or rendering them illegible. In addition, the Rule directs sellers, including retailers, to post label information on Web sites and in paper catalogs from which consumers can order products. EnergyGuide labels for covered products contain three key disclosures: Estimated annual energy cost (for most products); a product's energy consumption or energy efficiency rating as determined from Department of Energy (DOE) test procedures; and a comparability range displaying the highest and lowest energy costs or efficiency ratings for all similar models. For energy cost calculations, the Rule specifies national average costs for applicable energy sources (e.g., electricity, natural gas, oil) as calculated by DOE. Under the Rule, the Commission periodically updates comparability range and annual energy cost information.⁴ The Commission updates the range information based on manufacturer data submitted pursuant to the Rule's reporting requirements.

⁴ 16 CFR 305.10.

II. Updates to Heating and Cooling Labels

Summary: The Commission amends its label requirements for heating and cooling equipment consistent with proposed amendments in a Supplemental Notice of Proposed Rulemaking (SNPRM) published on June 18, 2014 (79 FR 34642). As detailed below, these amendments update labels for furnaces and boilers, including range information, remove information on furnace labels about regional standards, and remove mandatory capacity disclosures for all heating and cooling equipment.⁵ The Commission will address other matters discussed in the June 18, 2014 SNPRM in a future notice.⁶

⁵ The amendments also make a non-substantive correction to section 305.7(a) and (b), which references DOE procedures for measuring refrigerator and freezer capacity. The Association of Home Appliance Manufactures identified this issue in their recent comment (#569-00014). In Appendix L, the amendments also update the refrigerator-freezer and clothes washer prototype labels and reinsert the current sample ceiling fan label, which was inadvertently removed by recent amendments.

⁶ In response to the SNPRM, the Commission received 17 comments from organizations and individuals. Six of these addressed the heating and cooling issues discussed in this document. See http://www.ftc.gov/policy/public-comments/initiative-569. The comments addressing issues discussed in this Notice include: American Public Gas Association (APGA) (#569-00012), American Gas Association (AGA) (#569-00013), Air-Conditioning, Heating, and Refrigeration Institute (AHRI) (#569-00016), Earthjustice (on behalf of several energy efficiency groups) (#569-00017), Goodman Global, Inc., (#569-00008), Laclede Gas (#569-00011), and Nicholas (#569-0003).

Background: The Commission issued revised heating and cooling equipment labels in 2013 to provide installers and consumers with information about new regional standards issued by DOE for some of those products.⁷ The new FTC labels for split-system and single-package central air conditioners, gas furnaces, and non-weatherized mobile home furnaces included information about compliance with the regional standards in the form of statements and maps illustrating regions where specific models can be installed under the DOE rules. The new labels also included a Web site link, model number, and capacity information for all furnaces and central air conditioners (regardless of whether subject to regional or uniform national standards) to help consumers access DOE-generated cost information online.⁸

⁷ 78 FR 8362 (Feb. 6, 2013).

⁸ 78 FR at 8365.

However, following issuance of the new FTC requirements, a legal settlement vacated the DOE regional furnace standards.⁹ Because the Commission tied implementation for the new labels (including labels for products subject to uniform national standards) to the DOE regional standards dates, the settlement had the effect of postponing indefinitely the FTC label updates for most gas furnaces, oil furnaces, boilers, and electric furnaces.¹⁰

⁹ American Public Gas Ass'n v. DOE, No. 11-1485 (D.C. Cir. filed Dec. 23, 2011) (DE.#1433580, May 1, 2013) and (DE.# 1489805, Apr. 24, 2014).

¹⁰ The settlement did not affect DOE regional standards (or FTC labels) for split system and single package central air conditioners scheduled to become effective on January 1, 2015. As part of the settlement, DOE agreed to issue a policy statement establishing an 18-month enforcement grace period for any air conditioner units manufactured before January 1, 2015.

In the wake of the settlement, DOE is not likely to issue revised regional furnace standards in the immediate future. Given these circumstances, the Commission, in its June 18, 2014 SNPRM, proposed to address the need for current information by updating the energy use ranges for boilers and oil-furnace labels and ranges. Furthermore, the Commission proposed to update the labels and ranges for all furnaces and omit the obsolete regional standards information for those products.¹¹ Consistent with the new labels required by the February 6, 2013 amendments, the proposed label would include a prominent link to an online energy cost calculator provided by the DOE Web site (productinfo.energy.gov). This calculator will provide a clear, understandable tool to allow consumers to compare energy costs of different models.¹² To coincide with new efficiency standards for gas furnaces, the Commission proposed making the revised gas furnace labels effective on January 1, 2015.¹³

¹¹ These amendments do not alter the January 1, 2015 compliance date for central air conditioners established in the February 6, 2013 notice. 78 FR 8362.

¹² 78 FR at 8365.

¹³ The SNPRM also proposed a November 1, 2014 effective date for boilers and oil furnace labels.

The Commission also proposed eliminating capacity disclosures on EnergyGuide labels for heating and cooling equipment, but maintaining model numbers. Prior to the February 6, 2013 amendments, the EnergyGuide labels for furnaces and central air conditioners did not require capacity disclosures. In 2013, the Commission added a capacity disclosure to help consumers access cost information posted on the DOE Web site. In the SNPRM (79 FR at 34652-34653), the Commission proposed eliminating this new requirement because the capacity for split-system air conditioners varies depending on the condenser-coil combination. Therefore, a capacity disclosure requirement could raise implementation problems and mislead consumers for some products. Under the proposal, consumers could use model numbers to access specific cost and capacity information for various products, including condenser-coil combinations, through the DOE Web site.

Comments: Many comments supported the elimination of information about the vacated DOE regional standards from the label.¹⁴ No comments opposed this proposal.¹⁵

¹⁴ See e.g., AHRI, Goodman, and APGA. AHRI recommended that the Commission consolidate the effective dates for the revised furnace and boiler labels to January 1, 2015 to simplify compliance.

¹⁵ Some commenters raised broader issues related to heating and cooling equipment not addressed in this Notice because they may require a specific proposal and additional public comment. For example, AHRI recommended that the Commission create new labels for packaged rooftop systems, a combination of a gas furnace product and air conditioner or heat pump. In addition, several commenters (e.g., AGA and AGPA) raised questions about label disclosures related to full fuel cycle issues. The Commission will address these matters in the future.

The comments provided differing views on the Commission's proposal to eliminate capacity disclosures for heating and cooling products. AHRI, which filed comments (#563707-00010) on the issue earlier in the proceeding, and Goodman agreed with the proposal. AHRI explained that the EnergyGuide label only appears on a split-system air conditioner's condensing unit. Because manufacturers cannot predict which coil will be paired with a particular condenser, they cannot predict the system's capacity rating. In lieu of capacity ratings, AHRI suggested that the FTC allow manufacturers to print basic model numbers on their EnergyGuide labels, which consumers can use to access the capacity information on DOE's database.¹⁶

¹⁶ One commenter, Nicholas (#569-003), recommended that the Commission require heating and cooling equipment labels to display the AHRI Certification number for the part. The commenter explained that such information would aid consumers in determining the efficiency rating of the installed equipment. The Commission does not propose to add such information because the label already contains the model number, which can be used to locate system efficiency through the DOE Compliance Certification Management System or AHRI's online database.

In contrast, several efficiency groups urged the Commission to retain the model capacity disclosure. The groups, which understood the proposed change to be limited to split-system air conditioners, argued that retaining the disclosure would be more informative and more consistent with disclosures for other products, such as oil furnaces. They urged consideration of a range of capacities for split-system units. The groups also noted that the DOE Web site link on the FTC label is not yet operable and explained that DOE does not collect heating capacity information for split-system heat pumps. The groups urged the FTC to ensure that the DOE Web site is updated appropriately.¹⁷

¹⁷ See Earthjustice (#569-00017).

Finally, several comments from natural gas industry groups urged the Commission to prohibit the ENERGY STAR logo on certain furnaces.¹⁸ Since 2012, furnace models rated between a 90 and a 95 annual fuel utilization efficiency (AFUE) qualify for the ENERGY STAR program when installed in southern states.¹⁹ The ENERGY STAR logo for these models contains a map denoting those states accompanied by the ENERGY STAR symbol and the words “qualified only in.” The commenters argued that this ENERGY STAR logo incorrectly implies a regional minimum efficiency standard exists for furnaces and thus will lead to consumer confusion. Therefore, APGA suggested that labels bearing the ENERGY STAR logo contain the following disclosure: “This furnace qualifies for the Department of Energy (DOE) and Environmental Protections Agency's (EPA) volunteer ENERGY STAR program.” AGA, on the other hand, urged the Commission simply to prohibit the ENERGY STAR logo on furnace labels. It also questioned whether the Commission has authority to allow the ENERGY STAR logo on EnergyGuide labels.

¹⁸ See APGA (#569-00012), AGA (#569-00013), and Laclede Gas (#569-00011).

¹⁹ See ENERGY STAR Program Requirements for Furnaces—Test Method (Rev. Jun-2011) (http://www.energystar.gov/sites/default/files/specs/private/Furnaces_Version_3.0_Program_Requirements.pdf).

Discussion: Consistent with its proposal in the SNPRM, the Commission updates furnace and boiler labels to include new range information,²⁰ provide the link to the DOE Web site for cost information, and eliminate the capacity disclosure requirement.²¹ In the absence of regional furnace standards following the DOE Settlement, the amendments eliminate any disclosures related to regional standards for such products. If DOE issues revised regional standards in the future, the Commission will revisit whether and how to require label disclosures relating to regional standards. To ensure industry members have adequate time to implement these changes, the effective date for these amendments is April 6, 2015.

²⁰ The new furnace ranges included in this Notice apply to non-weatherized furnaces. The Commission issued updated ranges for weatherized furnaces on August 12, 2014. See 79 FR 46985.

²¹ The amendments also update the split-system central air conditioner sample label in Appendix L to indicate that U.S. territories are not part of the “Southeast” region for the purposes DOE's regional standards regulations. See 10 CFR 430.32. In addition, consistent with the requirements published in 2013 for both furnaces and central air conditioners (78 FR 8362, 8374 (Feb. 6, 2013)), the final rule (305.12(f)(2)) requires the name of the manufacturer or private labeler on the furnace label. The SNPRM contained obsolete language for manufacturer and private labeler names on furnace labels.

The amendments no longer require capacity disclosures for heating and cooling equipment labels. Instead, the amendments make capacity disclosures optional for all such equipment except for split-system air conditioners, whose labels may not contain capacity disclosures. The Commission issues these amendments for the following reasons. First, as noted in the SNPRM, the installed capacity of split-system air conditioners varies depending on the condenser-coil combination. Accordingly, a capacity requirement for those products is difficult to implement and could mislead or confuse consumers, even if a range of capacity is disclosed.²² Second, although the Commission initially explained that consumers need capacity information on the label to access cost information on the DOE Web site (78 FR at 8365), the Commission has since learned that the full model number of the installed system is adequate for all heating and cooling equipment. Finally, the absence of a capacity disclosure is unlikely to have a significant impact for typical consumers. Installation professionals use capacity numbers (expressed in Btu/h) to ensure a particular model is suitable for a consumer's home. Consumers seeking capacity information for a particular model can obtain it from their installer contractor or from the DOE Web site.²³ However, since some manufacturers may want to retain capacity information on their labels or may not desire to change recently updated labels to remove this information, the final rule makes the capacity disclosures optional for all models except split-systems, where such disclosures may cause confusion.

²² Because the rated efficiency of oil furnaces can depend on the input capacity set by the installer the Rule (section 305.12) allows manufacturers to provide a chart of different efficiency ratings associated with different input capacities that may be used by installers. However, unlike split-system air conditioners, the number of possible combinations and associated ratings is limited and can easily appear on the label. The final rule retains the optional capacity chart for oil furnace labels.

²³ The FTC staff will work with DOE to ensure the online cost calculator is operational before the new labels go into effect in 2015 and that capacity information collected by DOE is adequate for consumers and installers.

The final rule does not prohibit the ENERGY STAR logo on the EnergyGuide label for furnaces.²⁴ The Commission has permitted the ENERGY STAR logo on EnergyGuide labels since April 3, 2000 (65 FR 17554). As the Commission explained, the combination of the EnergyGuide's detailed efficiency rating disclosure and the ENERGY STAR logo provides a robust source of energy efficiency information to consumers. Without clear evidence indicating the logo suggests the existence of a regional standard to consumers, the Commission does not propose eliminating or qualifying this important information. In addition, installers can remedy any confusion that may stem from the ENERGY STAR logo during their discussions with customers, which typically occur as part of the sale of this type of equipment. Finally, the logo is optional under the Rule. If manufacturers believe it creates confusion for consumers examining the label, they may choose not to include it.

²⁴ The requirements regarding ENERGY STAR information on labels are consistent with EPCA, which specifically authorizes the Commission to include any information on the label related to energy consumption that would assist consumers in making purchasing decisions and in using the product. 42 U.S.C. 6294(c)(5).

III. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through May 31, 2017 (OMB Control No. 3084-0069). The amendments do not change the substance or frequency of the recordkeeping, disclosure, or reporting requirements and, therefore, do not require further OMB clearance.

IV. Regulatory Flexibility Act

The provisions of the Regulatory Flexibility Act relating to a Regulatory Flexibility Act analysis (5 U.S.C. 603-604) are not applicable to this proceeding because the amendments do not impose any new obligations on entities regulated by the Energy Labeling Rule. As explained in detail elsewhere in this document, the amendments do not significantly change the substance or frequency of the recordkeeping, disclosure, or reporting requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

List of Subjects in 16 CFR Part 305

Advertising, Energy conservation, Household appliances, Labeling, Reporting and recordkeeping requirements.

For the reasons set out above, the Commission amends 16 CFR part 305 as follows:

PART 305—ENERGY AND WATER USE LABELING FOR CONSUMER PRODUCTS UNDER THE ENERGY POLICY AND CONSERVATION ACT (ENERGY LABELING RULE)

1. The authority citation for Part 305 continues to read as follows:

Authority: 42 U.S.C. 6294.

2. In § 305.7, amend paragraphs (a) and (b) to read as follows:

§ 305.7 Determinations of capacity.

* * * * *

(a) Refrigerators and refrigerator-freezers. The capacity shall be the total refrigerated volume (VT) and the adjusted total volume (AV) in cubic feet, rounded to the nearest one-tenth of a cubic foot, as determined according to appendix A to 10 CFR part 430, subpart B.

(b) Freezers. The capacity shall be the total refrigerated volume (VT) and the adjusted total volume (AV) in cubic feet, rounded to the nearest one-tenth of a cubic foot, as determined according to appendix B to 10 CFR part 430, subpart B.

* * * * *

3. Amend § 305.12, to revise paragraph (f) to read as follows, remove paragraphs (g) and (h), redesignate paragraph (i) as paragraph (g), and revise newly redesignated paragraph (g) to read as follows:

§ 305.12 Labeling for central air conditioners, heat pumps, and furnaces.

* * * * *

(f) Content of furnace labels: Content of labels for non-weatherized furnaces, weatherized furnaces, mobile home furnaces, electric furnaces, and boilers.

(1) Headlines and texts, as illustrated in the prototype and sample labels in appendix L to this part.

(2) Name of manufacturer or private labeler shall, in the case of a corporation, be deemed to be satisfied only by the actual corporate name, which may be preceded or followed by the name of the particular division of the corporation. In the case of an individual, partnership, or association, the name under which the business is conducted shall be used.

(3) The model's basic model number.

(4) The model's capacity. Inclusion of capacity is optional at the discretion of the manufacturer or private labeler.

(5) The annual fuel utilization efficiency (AFUE) for furnace models as determined in accordance with § 305.5.

(6) Ranges of comparability consisting of the lowest and highest annual fuel utilization efficiency (AFUE) ratings for all furnaces of the model's type consistent with the sample labels in appendix L.

(7) Placement of the labeled product on the scale shall be proportionate to the lowest and highest annual fuel utilization efficiency ratings forming the scale.

(8) The following statement shall appear in bold print on furnace labels adjacent to the range(s) as illustrated in the sample labels in appendix L:

For energy cost info, visit productinfo.energy.gov.

(9) The following statement shall appear at the top of the label as illustrated in the sample labels in appendix L to this part:

Federal law prohibits removal of this label before consumer purchase.

(10) No marks or information other than that specified in this part shall appear on or directly adjoining this label except that:

(i) A part or publication number identification may be included on this label, as desired by the manufacturer. If a manufacturer elects to use a part or publication number, it must appear in the lower right-hand corner of the label and be set in 6-point type or smaller.

(ii) The energy use disclosure labels required by the governments of Canada or Mexico may appear directly adjoining this label, as desired by the manufacturer.

(iii) The manufacturer may include the ENERGY STAR logo on the label for certified products in a location consistent with the sample labels in appendix L to this part. The logo must be no larger than 1 inch by 3 inches in size. Only manufacturers that have signed a Memorandum of Understanding with the Department of Energy or the Environmental Protection Agency may add the ENERGY STAR logo to labels on qualifying covered products; such manufacturers may add the ENERGY STAR logo to labels only on those covered products that are contemplated by the Memorandum of Understanding.

(11) Manufacturers of boilers shipped with more than one input nozzle to be installed in the field must label such boilers with the AFUE of the system when it is set up with the nozzle that results in the lowest AFUE rating.

(12) Manufacturers that ship out boilers that may be set up as either steam or hot water units must label the boilers with the AFUE rating derived by conducting the required test on the boiler as a hot water unit.

(13) Manufacturers of oil furnaces must label their products with the AFUE rating associated with the furnace's input capacity set by the manufacturer at shipment. The oil furnace label may also contain a chart, as illustrated in sample label 9B in appendix L to this part, indicating the efficiency rating at up to three additional input capacities offered by the manufacturer. Consistent with paragraph (f)(10)(iii) of this section, labels for oil furnaces may include the ENERGY STAR logo only if the model qualifies for that program on all input capacities displayed on the label.

(g) Content of central air conditioner labels: Content of labels for central air conditioners and heat pumps.

(1) Headlines and texts, as illustrated in the prototype and sample labels in appendix L to this part.

(2) Name of manufacturer or private labeler shall, in the case of a corporation, be deemed to be satisfied only by the actual corporate name, which may be preceded or followed by the name of the particular division of the corporation. In the case of an individual, partnership, or association, the name under which the business is conducted shall be used.

(3) The model's basic model number.

(4) The model's capacity. Inclusion of capacity is optional at the discretion of the manufacturer or private labeler for all models except split-system labels, which may not disclose capacity.

(5) The seasonal energy efficiency ratio (SEER) for the cooling function of central air conditioners as determined in accordance with § 305.5. For the heating function, the heating seasonal performance factor (HSPF) shall be calculated for heating Region IV for the standardized design heating requirement nearest the capacity measured in the High Temperature Test in accordance with § 305.5. In addition, as illustrated in the sample labels 7 and 8 in appendix L to this part, the ratings for any split-system condenser-evaporator coil combinations shall include the low and high ratings of all condenser-evaporator coil combinations certified to the Department of Energy pursuant to 10 CFR part 430.

(6)(i) Each cooling-only central air conditioner label shall contain a range of comparability consisting of the lowest and highest SEER for all cooling only central air conditioners consistent with sample label 7A in appendix L to this part.

(ii) Each heat pump label, except as noted in paragraph (g)(6)(iii) of this section, shall contain two ranges of comparability. The first range shall consist of the lowest and highest seasonal energy efficiency ratios for the cooling side of all heat pumps consistent with sample label 8 in appendix L to this part. The second range shall consist of the lowest and highest heating seasonal performance factors for the heating side of all heat pumps consistent with sample label 8 in appendix L to this part.

(iii) Each heating-only heat pump label shall contain a range of comparability consisting of the lowest and highest heating seasonal performance factors for all heating-only heat pumps following the format of sample label 8 in appendix L to this part.

(7) Placement of the labeled product on the scale shall be proportionate to the lowest and highest efficiency ratings forming the scale.

(8) The following statement shall appear on the label in bold print as indicated in the sample labels in appendix L to this part.

For energy cost info, visit productinfo.energy.gov.

(9) All labels on split-system condenser units must contain one of the following three statements:

(i) For labels disclosing only the seasonal energy efficiency ratio for cooling, the statement should read:

This system's efficiency rating depends on the coil your contractor installs with this unit. Ask for details.

(ii) For labels disclosing both the seasonal energy efficiency ratio for cooling and the heating seasonal performance factor for heating, the statement should read:

This system's efficiency ratings depend on the coil your contractor installs with this unit. The heating efficiency rating will vary slightly in different geographic regions. Ask your contractor for details.

(iii) For labels disclosing only the heating seasonal performance factor for heating, the statement should read:

This system's efficiency rating depends on the coil your contractor installs with this unit. The efficiency rating will vary slightly in different geographic regions. Ask your contractor for details.

(10) The following statement shall appear at the top of the label as illustrated in the sample labels in appendix L of this part:

Federal law prohibits removal of this label before consumer purchase.

(11) For any single-package air conditioner with an Energy Efficiency Ratio (EER) of at least 11.0, any split-system central air conditioner with a rated cooling capacity of at least 45,000 Btu/h and efficiency ratings of at least 14 SEER and 11.7 EER, and any split-system central air conditioners with a rated cooling capacity less than 45,000 Btu/h and efficiency ratings of at least 14 SEER and 12.2 EER, the label must contain the following regional standards information:

(i) A statement that reads: Notice Federal law allows this unit to be installed in all U.S. states and territories.

(ii) For split systems, a statement that reads:

Energy Efficiency Ratio (EER): The installed system's EER could range from [_] to [_], depending on the coil installed with this unit.

(iii) For single-package air conditioners, a statement that reads:

Energy Efficiency Ratio (EER): This model's EER is [_].

(12) For any split-system central air conditioners with a rated cooling capacity of at least 45,000 Btu/h and minimum efficiency ratings below 14 SEER or 11.7 EER, and any split-system central air conditioner with a rated cooling capacity less than 45,000 Btu/h and a minimum efficiency rating below 14 SEER or 12.2 EER, the label must contain the following regional standards information consistent with sample label 7 in appendix L to this part:

(i) A statement that reads:

The installed system must meet the minimum Federal regional efficiency standards.

See productinfo.energy.gov for certified combinations.

(ii) A map, chart, and accompanying text as illustrated in the sample label 7 in appendix L.

(iii) For split-system air conditioner systems, a statement that reads

Energy Efficiency Ratio (EER): Could range from [_] to [_], depending on the coil installed with this unit.

(13) For any single-package air conditioner with an EER below 11.0, the label must contain the following regional standards information consistent with sample label 7B in appendix L to this part:

(i) A statement that reads:

Notice Federal law allows this unit to be installed only in: AK, AL, AR, CO, CT, DC, DE, FL, GA, HI, ID, IL, IA, IN, KS, KY, LA, MA, ME, MD, MI, MN, MO, MS, MT, NC, ND, NE, NH, NJ, NY, OH, OK, OR, PA, RI, SC, SD, TN, TX, UT, VA, VT, WA, WV, WI, WY and U.S. territories.

Federal law prohibits installation of this unit in other states.

(ii) A map and accompanying text as illustrated in the sample label 7A in appendix L.

(iii) A statement that reads:

Energy Efficiency Ratio (EER): This model's EER is [_].

(14) No marks or information other than that specified in this part shall appear on or directly adjoining this label except that:

(i) A part or publication number identification may be included on this label, as desired by the manufacturer. If a manufacturer elects to use a part or publication number, it must appear in the lower right-hand corner of the label and be set in 6-point type or smaller.

(ii) The energy use disclosure labels required by the governments of Canada or Mexico may appear directly adjoining this label, as desired by the manufacturer.

(iii) The manufacturer may include the ENERGY STAR logo on the label for certified products in a location consistent with the sample labels in appendix L to this part. The logo must be no larger than 1 inch by 3 inches in size. Only manufacturers that have signed a Memorandum of Understanding with the Department of Energy or the Environmental Protection Agency may add the ENERGY STAR logo to labels on qualifying covered products; such manufacturers may add the ENERGY STAR logo to labels only on those covered products that are contemplated by the Memorandum of Understanding.

4. Revise Appendices G1, G2, G3, G4, G5, G6, G7, and G8 to part 305 to read as follows:

Appendix G1 to Part 305—Furnaces—Gas

Furnace type | Range of annual fuel utilization efficiencies (AFUEs): Low | Range of annual fuel utilization efficiencies (AFUEs): High
Non-Weatherized Gas Furnaces—All Capacities | 80.0 | 98.5
Gas Furnaces—All Capacities | 81.0 | 95.0

Appendix G2 to Part 305—Furnaces—Electric

Furnace type | Range of annual fuel utilization efficiencies (AFUEs): Low | Range of annual fuel utilization efficiencies (AFUEs): High
Electric Furnaces—All Capacities | 100.0 | 100.0

Appendix G3 to Part 305—Furnaces—Oil

Type | Range of annual fuel utilization efficiencies (AFUEs): Low | Range of annual fuel utilization efficiencies (AFUEs): High
Non-Weatherized Oil Furnaces—All Capacities | 83.0 | 96.7
Weatherized Oil Furnaces—All Capacities | 78.0 | 83.0

Appendix G4 to Part 305—Mobile Home Furnaces—Gas

Type | Range of annual fuel utilization efficiencies (AFUEs): Low | Range of annual fuel utilization efficiencies (AFUEs): High
Mobile Home Gas Furnaces—All Capacities | 80.0 | 96.5

Appendix G5 to Part 305—Mobile Home Furnaces—Oil

Type | Range of annual fuel utilization efficiencies (AFUEs): Low | Range of annual fuel utilization efficiencies (AFUEs): High
Mobile Home Oil Furnaces—All Capacities | 80.0 | 87.0

Appendix G6 to Part 305—Boilers (Gas)

Type | Range of annual fuel utilization efficiencies (AFUEs): Low | Range of annual fuel utilization efficiencies (AFUEs): High
Gas Boilers (except steam)—All Capacities | 82.0 | 96.3
Gas Boilers (steam)—All Capacities | 81.0 | 83.4

Appendix G7 to Part 305—Boilers (Oil)

Type | Range of annual fuel utilization efficiencies (AFUEs): Low | Range of annual fuel utilization efficiencies (AFUEs): High
Oil Boilers—All Capacities | 82.0 | 91.2

Appendix G8 to Part 305—Boilers (Electric)

Type | Range of annual fuel utilization efficiencies (AFUEs): Low | Range of annual fuel utilization efficiencies (AFUEs): High
Electric Boilers—All Capacities | 100 | 100

5. Appendix L to part 305 is amended as follows:

a. Prototype Labels 1, 2, 3, and 4 are revised;

b. Sample Labels 7, 7A, 8, 9, 9A, and 9B are revised;

c. Sample Labels 7B and 8A are removed; and

d. Sample Label 17 is added.

The revisions read as follows:

Appendix L to Part 305—Sample Labels

* * * * *

BILLING CODE 6750-01-P

* * * * *

* * * * *

* * * * *

By direction of the Commission.
Donald S. Clark,
Secretary.

[FR Doc. 2014-30135 Filed 12-24-14; 8:45 am]

BILLING CODE 6750-01-C